DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following Federal Committee meeting.

Name: Advisory Committee on Immunization Practices (ACIP).

Times and Dates: 8:30 a.m.-6:30 p.m., June 18, 2003. 8 a.m.-3:45 p.m., June 19, 2003.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The Agenda will include a discussion on the smallpox vaccine update; adverse events following smallpox vaccine in the civilian vaccination program; update investigation of cardiac adverse events following smallpox vaccine; women with smallpox vaccine exposure; report from the smallpox vaccine safety working group; consideration for the timing of revaccination; update on smallpox vaccine 10day/21day survey of recipients; vaccinating cochlear implant recipients against vaccine-preventable causes of bacterial meningitis; impact of ACIP Recommendations on the use of PCV7 by pediatricians during the shortage; influenza update and live attenuated influenza vaccine recommendation; recommending the meningococcal vaccine for adolescents; progress on safe, disposable cartridge jet injectors for mass immunization campaigns; update on a project to increase public engagement in decision-making about vaccines; evaluation of thimersol containing vaccines in non-human primates; and Federal Advisory Stakeholder Engagement Survey Results.

Agenda items are subject to change as priorities dictate.

Contact Person for More Information: Demetria Gardner, Epidemiology and Surveillance Division, National Immunization Program, CDC, 1600 Clifton Road, NE., Mailstop E-61, Atlanta, Georgia 30333, telephone 404/639-8096, fax 404/639-8616.

The Director, Management Analysis and Services Office, has been delegated the authority to sign Federal Register notices pertaining to announcements of meetings and other committee management activities for both CDC and the Agency for Toxic Substances and Disease Registry.

Dated: May 16, 2003.
Alvin Hall,
Director, Management Analysis and Services Office, Centers for Disease Control and Prevention (CDC).

[FR Doc. 03-12959 Filed 5-22-03; 8:45 am]

BILLING CODE 4163-18-P